DEPARTMENT OF LABOR

Employment and Training Administration

Notice of Determinations Regarding Eligibility To Apply for Worker Adjustment Assistance and NAFTA Transitional Assistance

In accordance with section 223 of the Trade Act of 1974, as amended, the Department of Labor herein presents summaries of determinations regarding eligibility to apply for trade adjustment assistance for workers (TA-W) issued during the period of December, 2000 and January, 2001.

In order for an affirmative determination to be made and a certification of eligibility to apply for worker adjustment assistance to be issued, each of the group eligibility requirements of section 222 of the Act must be met.

(1) That a significant number of proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the Absolute decline in sales or production.

Negative Determinations for Worker Adjustment Assistance

In each of the following cases the investigation revealed that criterion (3) has not been met. A survey of customers indicate that increased imports did not contribute importantly to work separations at the firm.

TA-W-38,153; Agco Corp., Coldwater, OH

TA-W-37,904; Fieldcrest Cannon, Inc., Pillowtex, Plant #7, Salisbury, NC

TA-W-38,292; Carolina Mills, Plant #25, St. Pauls, NC

TA-W-38,182; Cox Target Media Sales, Inc., Washington, NC;

TA-W-38-101 & A; Bonney Forge Corp., Allentown , PA, and Mt. Union, PA

TA-W-37,941; Royal Oak Enterprises, Inc., Licking, MO

TA-W-38,162; Excel Finishing, Inc., Old Fort, NC

TA-W-38,093; Kezar Falls Woolen Co., A Div. of Robinson Manufacturing Co., Parsonsfield, ME

TA-W-38,169 & A; Quality Veneer and Lumber, Hanel Lumber Div., Hold River, OR and Odell, OR

In the following cases, the investigation revealed that the criteria for eligibility have not been met for the reasons specified.

TA-W-38,343; United Steelworkers of America, Local 2176, Gadsden, AL

TA-W-38,203; Anchor Glass Container, Dayville, CT

TA-W-38,199; Uniscribe Professional Services, Inc., Wheeling, WV

TA-W-38,313, Winn-Dixie Raleigh, Inc., Garden City, SC

TA-W-38,205; Crater Lake Potato Distributors, Klamath Falls, OR

The workers firm does not produce an article as required for certification under Section 222 of the Trade Act of 1974.

TA-W-38,193; Contract Apparel, Inc., El Paso, TX

TA-W-38,186; Nine West Distribution Center, Cincinnati, OH

TA-W-38,267; A and B Component Parts Shubuta, MS

TA-W-38,052; Pulaski Furniture, Plant #2, Martinsville, VA

TA-W-38,298; JN Oil and Gas, Inc., Headquartered in Billings, MT and Operating in the Following States: A; MT, B; TX, C; ND, D; WY, E; OK, F; KS

TA-W-38,026; Holcroft, LLC, Livonia, MI

TA-W-38,227; Vulcan Materials, Attalla, AL

TA-W-38,181; PPG Industries, Inc., Springdale, PA

TA-W-38,254; Parker Hannifin Corp., Process Filtration Div., Lebanon, IN

TA-W-38,151; Elliott Turbomachinery, Inc., Jeannette, PA

TA-W-38,138; Raytheon Corp., Lewisville, TX

Increased imports did not contribute importantly to workers separations at the firm.

TA-W-38,071; Molteck Power Systems, Gainesville, FL

The investigation revealed that criteria (2) has not been met. Sales or production did not decline during the relevant period as required for certification.

TA-W-38,253; Intercontinental Branded Apparel, Ellwood Ave., Buffalo, NY

TA-W-38,230; Heraeus Sensor Nite Co., Ellwood City, PA

The investigation revealed that criteria (1) has not been met. A significant number or proportion of the workers did not become totally or partially separated from employment as required for certification.

Affirmative Determinations for Worker Adjustment Assistance

The following certifications have been issued; the date following the company name and location of each determination references the impact date for all workers of such determination.

TA-W-38,165; L and L Manufacturing Co., Inc., L and L Factory, Los Angeles, CA; September 19, 1999.

TA-W-38,116; S. I. Cutting Service, Opalocka, FL: September 13, 1999.

TA-W-38,015; Boyt Brands, Bedford, IA: August 11, 1999.

TA-W-38,224; Handy Girl, LLC, Deer Park, MD: March 7, 2000.

TA-W-38,246; Jakel, Inc., East Prairie, MO: October 13, 1999.

TA-W-38,210; Chilton Toys, Div. of Strombecker Corp., Seymour, WI: September 26, 1999.

TA-W-38,139; Lyall Alabama, Ardmore, AL: September 6, 1999.

TA-W-38,351; Tyco Electronics, Sanford, ME: November 7, 1999.

TA-W-38,333; Smith and Wesson, Springfield, MA: November 2, 1999.

TA-W-38,250; Designer Hearths, Inc., Missoula, MT: October 17, 1999.

TA-W-38,259; Precision Interconnect Medical Cable Div., Waupin, WI: October 17, 1999.

TA-W-38,090; Waynesboro Apparel, Inc., Waynesboro, TN: August 31, 1999.

TA-W-38,236; PACE Industries, Puget Div., Inc., Fircrest, WA: October 6, 1999.

TA-W-38,226; Stimson Lumber co., Bonner, MT: October 4, 1999.

TA-W-38,975; U.S. Textile Corp., Newland, NC: July 25, 1999.

TA-W-38,092; Xerox Colorgraphx Systems, San Jose, CA: September 1, 1999.

TA-W-38,335; Victor Electric Wire and Cable Corp., Coventry, RI: November 1, 1999.

TA-W-38,896; Knowles Electronics, Inc., Hearing Aid Component Unit, Itasca, IL and Elgin, IL: July 5, 1999.

TA-W-38,152; Montgomery Hosiery Mill, Inc., Star, NC: September 18, 1999.

TA-W-38,172; Maxxim Medical, Los Gator, CA: September 15, 1999.

TA-W-38,180; Northern Cap Manufacturing Co., Little Falls, MN: September 25, 1999.

TA-W-38,251; Technical Ruber and Plastic Corp., Clifton, NJ: October 10, 1999.

TA-W-38,433; Full Line Distributors, Inc., d/b/a L.A.T. Sportswear, Canton, GA: December 6, 1999.

TA-W-38,361; Don Shapiro Industries, Inc., Action West Div., El Paso, TX: May 13, 2000.

TA-W-38,224; Utica Cutlery Co., Utica Stainless Div., Utica, NY: October 4, 1999.

TA-W-38,367; Key Industries, Inc., Erin, TN: November 14, 1999.

TA-W-38,436; United States Leather, Lackawanna Leather, Including Leased Workers of Snelling Personnel Services, El Paso, TX: December 1, 1999.

TA-W-38,200; M. Fine and Sons Manufacturing Co., Inc., Loretto, TN: September 17, 1999.

TA-W-38,003; Parker Seal Co., Berea, KY: August 28, 1999.

TA-W-38,318; Pyramid Mountain Lumber, Inc., Seeley Lake, MT: October 30, 1999.

TA-W-38,225; Alcoa Fujikura Ltd., Heavy Truck and Industrial Div., Shelbyville, KY: October 6, 1999.

TA-W-38,303; CMI Industries, Inc., Geneva, AL: October 27, 1999.

TA-W-38,278; Breli Originals, Inc., New York, New York: October 23, 1999.

TA-W-38,232; Carolina Shoe Co., Morganton, NC: October 4, 1999.

TA-W-38,457; Copper Range Co., White Pine, MI: September 27, 1997.

TA-W-38,187; Talon, Inc., Commerce, CA: September 25, 1999.

TA-W-38,359; Johns Manville International, Inc., Corona, CA: November 8, 1999.

TA-W-38,083 & A; Allegheny Ludlum Corp., Jessop Plate Mill, Jessop O & T, Washington Flat Roll (Formerly Washington Steel Corp.), Washington, PA and Houston, PA: August 30, 1999.

TA-W-38,256; Wundies-Santtony Wear, Seaming and Shipping Dept., Rockingham, NC: October 17, 1999.

TA-W-38,312; R & S Manufacturing, Columbia, PA: November 13, 1999.

TA-W-38,403; ICI Explosives USA, Inc., Ammonium Nitrate Div., Joplin, MO: November 17, 1999.

TA-W-38,047; Rockwell Automation, Sheet Metal Fabrication Dept., Euclid Plant, Euclid, OH: August 25, 1999.

TA-W-38,222; Whatman, Inc., Clifton, NJ: October 2, 1999.

TA-W-38,126 & A; Eastland Shoe Manufacturing Corp., Lisbon Falls, ME and Freeport, ME: November 17, 2000.

TA-W-38,184; JB Sportswear, Union, MS: October 10, 1999.

TA-W-38,371; Sasib Food and Beverage Machinery, Sasib Packaging North America, Depere, WI: November 14, 1999.

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of December, 2000 and January 2001.

In order for an affirmative determination to be made and a certification of eligibility to apply for NAFTA-TAA the following group eligibility requirements of Section 250 of the Trade Act must be met:

(1) That a significant number of proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-04297; Aavid Thermalloy, Santa Ana Plant, Santa Ana, CA

NAFTA-TAA-04029 & A; Knowles Electronics, Inc., Hearing Aid Component Unit Itasca, IL and Elgin, IL

NAFTA-TAA-04125 A; Allegheny Ludlum Corp., Jessop Plate Mill, Jessop O & T, Washington Flat Roll (Formerly Washington Steel Corp), Washington, PA and Houston, PA

NAFTA-TAA-04150; Holcroft, LLC, Livonia, MI

NAFTA-TAA-04198; PPG Industries, Inc., Springdale, PA

NAFTA-TAA-04184; Mountaineer Precision Tool and Mold, Inc., Waynesville, NC

NAFTA-TAA-04306; Parker Hannifin Corp., Process Filtration Div., Lebanon, IN

NAFTA-TAA-04191; Cox Target Media Sales, Inc., Washington, NC

NAFTA-TAA-04082; Fieldcrest Cannon, Inc., Pillowex, Plant 7, Salisbury, NC

NAFTA-TAA-04201; Contract Apparel, Inc., El Paso, TX

NAFTA-TAA-04344; A and B Component Parts, Shubuta, MS

NAFTA-TAA-04329; It's Personal Ltd, New York, New York

NAFTA-TAA-04188; M. Fine and Sons Manufacturing Co., Inc., Loretto, TN

NAFTA-TAA-04186; Excel Finishing, Inc., Old Fort, NC

NAFTA-TAA-04079; Royal Oak Enterprises, Inc., Licking, MO

The investigation revealed that the criteria for eligibility have not been met for the reasons specified.

NAFTA-TAA-04200; Crater Lake Potato Distributors, Klamath Falls, OR

The investigation revealed that workers of the subject firm did not produce an article within the meaning of Section 250(a) of the Trade Act, as amended.

Affirmative Determinations NAFTA-TAA

NAFTA-TAA-04316; Hatfield Trousers, Div. of Pincus Brothers, Hatfield, PA: November 17, 1999.

NAFTA-TAA-04231 & A; Talon, Inc., Lake City, SC and Stanley, NC: December 14, 2000.

NAFTA-TAA-04269; Snyder Walls Industries, Inc., Snyder, TX: October 25, 1999.

NAFTA-TAA-04114; Lotus Designs, Inc., Weaverville, NC: August 16, 1999.

NAFTA-TAA-04218; Designer Hearths, Inc., Missoula, MT: October 5, 1999.

NAFTA-TAA-04213; L and L Manufacturing Co., Inc., L and L Factory, Los Angeles, CA: September 19, 1999.

NAFTA-TAA-04326; Tyco Electronics, Sanford, ME: November 7, 1999.

NAFTA-TAA-04242; Hi-Line Storage Systems, Perkasie, PA: October 13, 1999.

NAFTA-TAA-4233; Wundies Santtony Wear, Seaming and Shipping Dept., Rockingham, NC: October 17, 1999.

NAFTA-TAA-04267; Alcoa Fujikura Ltd, Heavy Truck and Industrial Div., Shelbyville, KY: October 6, 1999.

NAFTA-TAA-04324; Johns Manville International, Inc., Corona, CA November 15, 1999.

NAFTA-TAA-04229; Maxxim Medical, Los Gatos, CA: September 15, 1999.

NAFTA-TAA-04299; Smith and Nephew, Inc., Ortho-Glass Dept., Charlotte, NC: November 13, 1999.

NAFTA-TAA-04220; Stimson Lumber Co., Booner, MT: October 4, 1999.

NAFTA-TAA-04328; Velvac, Inc., Inc., New Berlin, WI: November 24, 1999.

NAFTA-TAA-04193; MHPG, Inc., Whitinsville, MA: September 27, 1999.

NAFTA-TAA-04137; Quality Veneer and Lumber, Hood River, OR: august 14, 1999.

NAFTA-TAA-04335; Mediacopy, San Leandro, CA: November 21, 1999.

NAFTA-TAA-04037; Norton Packaging, Inc., Steel Pail Div., Oakland CA: July 20, 1999.

NAFTA-TAA-04263; Carolina Mills, Plant 25, St. Pauls, NC: October 21, 1999.

NAFTA-TAA-04341; Walls Industries, Inc., Boaz, AL: October 26, 1999.

NAFTA-TAA-04294; Rich and Me, Inc., Vernon, CA: November 3, 1999.

NAFTA-TAA-04272; Pyramid Mountain Lumber, Inc., Seeley Lake, MT: October 30, 1999.

NAFTA-TAA-04298; Cottrell, Ltd, LLC, Englewood, CO: November 14, 1999.

NAFTA-TAA-04178; Montgomery Hosiery Mill, Inc., Star, NC: August 25, 1999.

NAFTA-TAA-04318; Don Shapiro Industries, Inc., Action West Div., El Paso, TX: May 13, 2000.

NAFTA-TAA-04333; Karmazin Products Corp., Wyandotte, MI: November 28, 1999.

NAFTA-TAA-04343; Johnson Controls, Inc., Controls Group—Poteau Facility; Poteau, OK: November 29, 1999.

NAFTA-TAA-04175; Jomac-Wells Lamont Industry, Brunswick, MO: September 20, 1999.

NAFTA-TAA-04258; U.S. Label Artistic, Clinton, NC: October 25, 2000.

NAFTA-TAA-04366; Bynum Concepts, Inc., Lubbock, TX: November 30, 1999.

NAFTA-TAA-04332; Litton Network Access Systems, Roanoke, VA: November 28, 1999.

I hereby certify that the aforementioned determinations were issued during the month of December, 2000 January, 2001. Copies of these determinations are available for inspection in Room C-5311, U.S. Department of Labor, 200 Constitution Avenue, NW., Washington, DC 20210 during normal business hours or will be mailed to persons who write to the above address.

Dated: January 5, 2000.
Edward A. Tomchick,
Director, Division of Trade Adjustment Assistance.

[FR Doc. 01-936 Filed 1-10-01; 8:45 am]

BILLING CODE 4510-30-M